DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of March 2002.

Name: National Advisory Council on the National Health Service Corps.

Date and Time: March 7, 2002, 5:00 p.m.-7 p.m.; March 8, 2002; 8 a.m.-5 p.m.; March 9, 2002; 9 a.m. to 5 p.m.; March 10, 2002; 8 a.m.-10:30 a.m.

Place: Double Tree Hotel, 1750 Rockville Pike, Rockville, MD 20852. Phone: (301) 468-1100.

The meeting is open to the public.

Agenda: The agenda will focus on meeting with the management team from the Agency and the Bureau of Health Professions regarding the Administration's vision and goals for the National Health Service Corps and the designation of health professional shortage areas.

For further information, call Ms. Eve Morrow, Division of National Health Service Corps, at (301) 594-4144.

Agenda items and times are subject to change as priorities dictate.

Dated: February 27, 2002.
Jane M. Harrison,
Director, Division of Policy Review and Coordination.

[FR Doc. 02-5152 Filed 2-28-02; 10:36 am]

BILLING CODE 4165-15-P